DEPARTMENT OF THE TREASURY

Submission for OMB Review; Comment Request

October 17, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 26, 2001 to be assured of consideration.

Internal Revenue Service

OMB Number: 1545-1378.

Regulation Project Number: PS-4-89 Final.

Type of Review: Extension.

Title: Disposition of an Interest in a Nuclear Power Plant.

Description: The regulations require that certain information be submitted as part of a request for a schedule of ruling amounts. The regulations also require certain taxpayers to file a request for a revised schedule of ruling amounts.

Respondents: Business or other for-profit.

Estimated Number of Respondents: 70.

Estimated Burden Hours Per Respondent: 8 hours, 13 minutes.

Frequency of Response: On occasion.

Estimated Total Reporting Burden: 575 hours.

OMB Number: 1545-1629.

Form Number: IRS Form 8867.

Type of Review: Extension.

Title: Paid Taxpayer's Earned Income Credit Checklist.

Description: Form 8867 helps preparers meet the due diligence requirements of Code section 6695(g), which was added by section 1085(a)(2) of the Taxpayer Relief Act of 1997. Paid preparers of Federal income tax returns or claims for refund involving the earned income credit (EIC) must meet the due diligence requirements in determining if the taxpayer is eligible for the EIC and the amount of the credit. Failure to do so could result in a $100 penalty for each failure. Completion of Form 8867 is one of the due diligence requirements.

Respondents: Business or other for-profit.

Estimated Number of Respondents/Recordkeepers: 1,100,000.

Estimated Burden Hours Per Respondent/Recordkeeper:

Recordkeeping—13 min.

Learning about the law or the form—8 min.

Preparing the form—24 min.

Frequency of Response: Annually.

Estimated Total Reporting/Recordkeeping Burden: 9,707,399 hours.

Clearance Officer: Garrick Shear, Internal Revenue Service, Room 5244, 1111 Constitution Avenue, NW., Washington, DC 20224

OMB Reviewer: Alexander T. Hunt (202) 395-7860, Office of Management and Budget, Room 10202, New Executive Office Building, Washington, DC 20503

Mary A. Able,
Departmental Reports, Management Officer.

[FR Doc. 01-26902 Filed 10-24-01; 8:45 am]

BILLING CODE 4830-01-P